DEPARTMENT OF DEFENSE

Department of the Navy

Special Area Solid Waste Discharge Standards for Ships Decommissioning Between January 1, 2001, and December 31, 2005

AGENCY: Department of Defense.

ACTION: Notice.

SUMMARY: Section 324 of the National Defense Authorization Act for Fiscal Year 1997, Public Law 104-201, requires the Secretary of the Navy to prescribe and publish in the Federal Register standards to ensure that ships decommissioning between January 1, 2001, and December 31, 2005, are to the maximum extent practicable without impairing the operations or operational capabilities of the ship, operated in a manner that is consistent with the special area requirements of Regulation 5 of Annex V to The International Convention for the Prevention of Pollution from Ships (MARPOL) and provide a list of the applicable ships.

FOR FURTHER INFORMATION CONTACT: Mr. Louis Maiuri, Office of the Chief of Naval Operations Environmental Protection, Safety and Occupational Health Division, Crystal Plaza #4, Room 654, 2211 South Clark Place, Arlington, Virginia, 22244-5108, telephone number (703) 602-2602.

SUPPLEMENTARY INFORMATION: MARPOL as amended by the MARPOL Protocol of 1978, protects the ocean environment by prohibiting some discharges altogether, restricting other discharges to particular distances from land, and establishing “special areas” within which additional discharge limitations apply. One of the discharges specified for restriction under MARPOL Annex V is solid waste.

Ships that are decommissioning between January 1, 2001, and December 31, 2005, and do not have Navy solid waste equipment installed, will, to the maximum extent practicable without impairing the operations or operational capabilities of these ships, be operated in a manner that is consistent with the special area requirements of Regulation 5 of Annex V of MARPOL in accordance with the following standards:

Prior to entering a special area, surface ships will identify essential logistics requirements needed to facilitate the offload and disposal of shipboard garbage at either port reception facilities or supply ships, which have the capacity to receive and store other ship's garbage for transfer and disposal ashore.

Surface ships may not discharge unprocessed garbage in the special areas defined in Regulation 5 of ANNEX V unless such discharge is in compliance with the applicable exceptions listed in Regulation 6 of ANNEX V which states that the prohibition on the discharge of garbage in special areas “* * * shall not apply to:

(a) the disposal of garbage from a ship necessary for the purpose of securing the safety of a ship and those on board or saving life at sea, or

(b) the escape of garbage resulting from damage to a ship or its equipment provided all reasonable precautions have been taken before and after the occurrence of the damage for the purpose of preventing or minimizing the escape; * * *”

On the unusual occasions in which a discharge may be necessary in a special area in accordance with the exceptions noted above, surface ships shall use all available means to cause unprocessed garbage to sink as rapidly as possible. The commanding officer shall note the details of such a discharge (date of discharge, special area involved, and nature and amount of discharge) in the ship's deck log. Upon completion of operations in a special area in which a garbage discharge was necessary, ships shall report all discharges other than food waste, pulped garbage and shredded and bagged metal and glass to CNO (N45), regarding:

(a) Date of discharge.

(b) Special area involved.

(c) Nature and amount of discharge (estimated pounds of unshredded metal and glass; unpulped wood, paper and cardboard; ceramic; or other non-food material).

These standards apply to the following ships:

USS CONSTELLATION (CV 64)

USS HEWITT (DD 966)

USS AUSTIN (LPD 4)

USS OGDEN (LPD 5)

USS WADSWORTH (FFG 9)

USS GEORGE PHILIP (FFG 12)

USS SAMUEL E. MORISON (FFG 13)

USS SIDES (FFG 14)

USS ESTOCIN (FFG 15)

Dated: January 11, 2001.
J.L. Roth,
Lieutenant Commander, Judge Advocate General's Corps, U.S. Navy, Federal Register Liaison Officer.

[FR Doc. 01-2392 Filed 1-25-01; 8:45 am]

BILLING CODE 3810-FF-P